NUCLEAR WASTE TECHNICAL REVIEW BOARD

Board Panel Meeting

March 14, 2007—Berkeley, California; The U.S. Nuclear Waste Technical Review Board's Panel on Postclosure Performance will meet to discuss U.S. Department of Energy studies related to infiltration at Yucca Mountain in Nevada.

Pursuant to its authority under section 5051 of Public Law 100-203, Nuclear Waste Policy Amendments Act of 1987, the U.S. Nuclear Waste Technical Review Board will meet in Berkeley, California, on Wednesday, March 14, 2007. The meeting agenda will focus on the U.S. Department of Energy's (DOE) infiltration estimates for the proposed repository site for spent nuclear fuel and high-level radioactive waste at Yucca Mountain in Nevada. The Board will review the results of nw infiltration studies undertaken by DOE. DOE conducted the new studies because of quality assurance questions that were raised about DOE's previous infiltration analyses. Information from the meeting will be used by the Board to evaluate effects of the new analyses on the technical validity of DOE infiltration estimates. The Board is charged by Congress with reviewing the technical and scientific validity of activities undertaken by DOE related to nuclear waste disposal, as stipulated in the Nuclear Waste Policy Amendments Act of 1987.

The meeting will be held at the Doubletree Hotel & Executive Meeting Center, 200 Marina Blvd.; Berkeley, CA 94710; tel: 510-548-7920; fax: 510-548-7944. A block of rooms has been reserved at the hotel for meeting participants. When making a reservation, please state that you are attending the Nuclear Waste Technical Review Board meeting. Reservations should be made by February 23, 2007, to ensure receiving the meeting rate.

The meeting is scheduled to begin at 8 a.m. and to conclude at approximately 6 p.m. Presentations will be made by technical and scientific investigators from the University of Nevada-Reno, the U.S. Geological Survey, and DOE and its contractors.

Time will be set aside at the end of the meeting for public comments. Those wanting to speak are encouraged to sign the “Public Comment Register” at the check-in table. A time limit may have to be set on individual remarks, but written comments of any length may be submitted for the record. Interested parties also will have the opportunity to submit questions in writing to the Board. Questions submitted by meeting attendees that are relevant to the discussion may be posed by Board members, as time permits.

A final agenda detailing meeting times, topics, and participants is available on the Board's Web site, http://www.nwtrb.gov. Copies of the meeting agenda also can be requested by telephone.

Transcripts of the meetings will be available on the Board's Web site, by e-mail, on computer disk, and on a library-loan basis in paper format from Davonya Barnes of the Board's staff, beginning on April 9, 2007.

For more information, please contact Karyn Severson, NWTRB External Affairs, 2300 Clarendon Blvd., Suite 1300; Arlington, VA 22202; tel: 703-235-4473; fax: 703-235-4495; severson@nwtrb.gov.

Dated: February 13, 2007.
C.W. Di Bella,
Acting Executive Director, Nuclear Waste Technical Review Board.

[FR Doc. 07-739 Filed 2-20-07; 8:45 am]

BILLING CODE 6820-AM-M